NUCLEAR REGULATORY COMMISSION

[NRC-2017-0151]

Information Collection: Domestic Licensing of Production and Utilization Facilities

AGENCY: Nuclear Regulatory Commission.

ACTION: Revision of existing information collection; request for comment.

SUMMARY: The U.S. Nuclear Regulatory Commission (NRC) invites public comment on the revision of an existing collection of information. The information collection is entitled, Domestic Licensing of Production and Utilization Facilities

DATES: Submit comments by March 13, 2020. Comments received after this date will be considered if it is practical to do so, but the Commission is able to ensure consideration only for comments received on or before this date.

ADDRESSES: You may submit comments by any of the following methods:

• Federal Rulemaking Website: Go to https://www.regulations.gov and search for Docket ID NRC-2018-0215. Address questions about NRC docket IDs in Regulations.gov to Jennifer Borges; telephone: 301-287-9127; email: Jennifer.Borges@nrc.gov. For technical questions, contact the individuals listed in the FOR FURTHER INFORMATION CONTACT section of this document.

• Mail comments to: David Cullison, Office of the Chief Information Officer, Mail Stop: T6-A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: INFOCOLLECTS.Resource@NRC.GOV.

SUPPLEMENTARY INFORMATION:

I. Obtaining Information and Submitting Comments

A. Obtaining Information

Please refer to Docket ID NRC-2017-0151 when contacting the NRC about the availability of information for this action. You may obtain publicly-available information related to this action by any of the following methods:

• Federal Rulemaking Website: Go to https://www.regulations.gov and search for Docket ID NRC-2018-0215.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. The supporting statement is available in ADAMS under Accession No. ML19184A634.

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, David Cullison, Office of the Chief Information Officer, U.S. Nuclear Regulatory Commission, Washington, DC 20555-0001; telephone: 301-415-2084; email: INFOCOLLECTS.Resource@NRC.GOV.

B. Submitting Comments

Please include Docket ID NRC-2017-0151 in the subject line of your comment submission, in order to ensure that the NRC is able to make your comment submission available to the public in this docket.

The NRC cautions you not to include identifying or contact information in comment submissions that you do not want to be publicly disclosed in your comment submission. The NRC will post all comment submissions at https://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

In accordance with the Paperwork Reduction Act of 1995 (44 U.S.C. chapter 35), the NRC is requesting public comment on its intention to request the OMB's approval for the information collection summarized below.

1. The title of the information collection: Appendix H to part 50 of title 10 of the Code of Federal Regulations (10 CFR), “Domestic Licensing of Production And Utilization Facilities.”

2. OMB approval number: 3150-0011.

3. Type of submission: Revision.

4. The form number, if applicable: Not applicable.

5. How often the collection is required or requested: On occasion.

6. Who will be required or asked to respond: Holders of an operating license for commercial light-water power reactors.

7. The estimated number of annual responses: A reduction of 1 response. The total number of responses for the part 50 information collection will be reduced from 43,678 to 43,677.

8. The estimated number of annual respondents: There will be a reduction of 1 respondent submitting an extension request; however, the total number of respondents to the 10 CFR part 50 information collection remains unchanged.

9. The estimated number of hours needed annually to comply with the information collection requirement or request: A reduction of 78 hours of reporting burden. The total burden for the part 50 information collection will be reduced from 3,731,355 to 3,731,277 hours.

10. Abstract: The NRC intends to publish a Direct Final Rule amending the information collection requirements in appendix H to 10 CFR part 50 related to the reactor vessel material surveillance program reporting requirements. The requirements for a reactor vessel material surveillance program are specified in appendix H to 10 CFR part 50. Appendix H to 10 CFR part 50 requires light-water nuclear power reactor licensees to implement a reactor vessel material surveillance program when it cannot be shown that the end of design life neutron fluence for the reactor vessel is below certain criteria. This program monitors changes in the fracture toughness properties of the reactor vessel materials adjacent to the reactor core. This is done by testing of irradiated material specimens that are in surveillance capsules in the reactor vessel for changes in material fracture toughness. The test results are used to assesses the integrity of the reactor vessel.

Licensees are required to submit a summary technical report to the NRC within one year of the date of the surveillance capsule was withdrawn from the reactor vessel unless an extension is granted by the Director, Office of Nuclear Reactor Regulation. The report will contain the data required by ASTM E 185, and the results of all fracture toughness tests conducted on the beltline materials in the irradiated and unirradiated conditions. At that time this requirement was adopted (48 FR 24008; July 26, 1983), there was still a limited amount of data from irradiated materials from which to estimate embrittlement trends of reactor vessels at nuclear power plants; thus, making it crucial for timely reporting of test results.

Some licensees have found it challenging to meet this one-year requirement due to the time needed for coordination among the multiple licensees participating in the program. Because a significant number of test specimens have been analyzed since 1983, resulting in an extensive understanding of embrittlement mechanisms, there is no longer a need for submitting a report within one year. As a result, the NRC determined that the reporting requirement in appendix H to 10 CFR part 50 could be revised.

This Direct Final Rule will extend the reporting period from 1 year to 18 months and reduce the need for licensees to prepare and submit extension requests and the NRC resources to review the requests.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 8th day of January 2020.
For the Nuclear Regulatory Commission.
David C. Cullison,
NRC Clearance Officer, Office of the Chief Information Officer.

[FR Doc. 2020-00284 Filed 1-10-20; 8:45 am]

BILLING CODE 7590-01-P